DEPARTMENT OF HEALTH AND HUMAN SERVICES

Centers for Disease Control and Prevention

[30Day-10-0009]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

National Disease Surveillance Program I—Case Reports (OMB No. 0920-0009, exp. 3/31/2010)—Revision—National Center for Zoonotic, Vector-borne, and Enteric Diseases (NCZVED), Centers for Disease Control and Prevention (CDC).

Background and Brief Description

Formal surveillance of 16 separate reportable diseases has been ongoing to meet the public demand and scientific interest in accurate, consistent, epidemiologic data. These ongoing disease reports include: Creutzfeldt-Jakob Disease (CJD), Cyclospora, Dengue, Hantavirus, Kawasaki Syndrome, Legionellosis, Lyme disease, Malaria, Plague, Q Fever, Reye Syndrome, Tickborne Rickettsial Disease, Trichinosis, Tularemia, Typhoid Fever, and Viral Hepatitis. The Active Bacterial Surveillance (ABCs) forms were removed in 2007 and were approved as separate documents under OMB control number 0920-0802. Case report forms from state and territorial health departments enable CDC to collect demographic, clinical, and laboratory characteristics of cases of these diseases. This revision incorporates the removal of the ABCs surveillance forms and minor changes to the Malaria surveillance form.

The purpose of the proposed study is to direct epidemiologic investigations, identify and monitor trends in reemerging infectious diseases or emerging modes of transmission, to search for possible causes or sources of the diseases, and develop guidelines for prevention and treatment. The data collected will also be used to recommend target areas most in need of vaccinations for selected diseases and to determine development of drug resistance. Because of the distinct nature of each of the diseases, the number of cases reported annually is different for each. There is no cost to respondents other than their time. The estimated annualized burden for this data collection is 11,441 hours.

Estimated Annualized Burden Hours
Respondent | Form | Number of respondents | Number of responses per respondent | Average burden per response (in hours)
Epidemiologist | Tyhphoid fever | 55 | 6 | 20/60
| Viral hepatitis | 55 | 200 | 25/60
| CJD | 20 | 2 | 20/60
| Cyclosporiasis | 55 | 10 | 15/60
| Dengue | 55 | 182 | 15/60
| Hantavirus | 40 | 3 | 20/60
| Kawasaki Syndrome | 55 | 8 | 15/60
| Legionellosis | 23 | 12 | 20/60
| Lyme Disease | 52 | 385 | 10/60
| Malaria | 55 | 20 | 15/60
| Plague | 11 | 1 | 20/60
| Q Fever | 55 | 1 | 10/60
| Reye Syndrome | 50 | 1 | 20/60
| Tick-borne Rickettsia | 55 | 18 | 10/60
| Trichinosis | 25 | 1 | 20/60
| Tularemia | 55 | 2 | 20/60

Dated: February 25, 2010.
Maryam I. Daneshvar,
Acting Reports Clearance Officer, Centers for Disease Control and Prevention.

[FR Doc. 2010-4512 Filed 3-3-10; 8:45 am]

BILLING CODE 4163-18-P